DEPARTMENT OF HEALTH AND HUMAN SERVICES

Awards Unsolicited Proposal; Catalog of Federal Domestic Assistance (CFDA) Number: 93.137 and 93.129

AGENCY: Office of Minority Health (OMH) and Office of the Assistant Secretary for Health, Department of Health and Human Services.

ACTION: Notice of award of an unsolicited request for funding to be awarded as a single project through two cooperative agreement awards to the American Heart Association (AHA), Dallas, Texas.

SUMMARY: OMH announces the award of a single-source award in response to an unsolicited proposal from the American Heart Association, Dallas, Texas. The proposal submitted was not solicited either formally or informally by any federal government official. The award is comprised of two cooperative agreements administered by OMH in collaboration with HRSA.

FOR FURTHER INFORMATION CONTACT: Paul Rodriguez at paul.rodriguez@hhs.gov or by telephone at 240-453-8208.

SUPPLEMENTARY INFORMATION:

Recipient: American Heart Association, Dallas, Texas.

Purpose of the Award: The Office of Minority Health (OMH) will award a cooperative agreement to AHA to improve COVID-related health outcomes for highly impacted racial and ethnic minorities by addressing hypertension as a key risk factor. In addition, OMH will award a cooperative agreement to AHA, on behalf of the Health Resources and Services Administration (HRSA), to provide technical assistance to HRSA-funded health centers to increase provider and clinician engagement in implementing evidence-based practices (e.g., advanced self-measured blood pressure technology) to increase the number of adult patients with controlled hypertension and reduce the potential risk of COVID-related health outcomes. The two cooperative agreements will support a single national project that is expected to identify promising approaches/best practices that combine new blood pressure measurement technology, lifestyle/behavioral modifications and locally targeted media campaigns to address uncontrolled, including undiagnosed, high blood pressure in racial and ethnic minority, American Indian/Alaska Native and other vulnerable populations, given the association of hypertension with worse COVID-19 health outcomes.

The project is expected to support training and technical assistance to support HRSA-funded health centers' implementation of evidence-based interventions that combine remote blood pressure monitoring technology to reduce disparities in uncontrolled and undiagnosed high blood pressure among medically underserved communities and populations, with a focus on racial and ethnic minorities. This award will provide training and technical assistance to approximately 350 HRSA-funded health centers serving approximately one million patients with the greatest opportunities to improve blood pressure control. Through a separate funding opportunity, HRSA anticipates providing funding to these 350 health centers to support their participation in the National Hypertension Control Initiative (HTN Initiative).

Amount of Awards: Approximately $32M ($17.5M OMH, $14.5M HRSA) for a project period of up to 3 years. The possible project total, including approximately $60M from HRSA to health centers, is approximately $92M ($17.5M OMH and $74.5M HRSA) and is subject to availability of funding and satisfactory performance.

Project Period: November 17, 2020-November 16, 2023.

This three-year HTN Initiative aligns with: (1) HHS' Strategic Plan goal to protect the health of Americans where they live, learn, work, and play (https://www.hhs.gov/about/strategic-plan/overview/index.html#overview); (2) the HHS Action Plan to Reduce Racial and Ethnic Health Disparities goal of advancing the health, safety and well-being of the American People (https://www.minorityhealth.hhs.gov/npa/files/Plans/HHS/HHS_Plan_complete.pdf); (3) the U.S. Surgeon General's Call to Action on Hypertension Control (https://www.hhs.gov/about/news/2020/10/07/surgeon-general-releases-call-to-action-on-hypertension-control.html); (4) OMH's overarching goal of supporting the sustainability and dissemination of health equity promoting policies, programs and practices and OMH's identification of hypertension as a clinical focus area (https://www.minorityhealth.hhs.gov/omh/browse.aspx?lvl=1&lvlid=1); and (5) HRSA's strategic goal to achieve health equity and enhance population health (https://www.hrsa.gov/about/strategic-plan/index.html) and HRSA's annual collection of data on health center patients with controlled hypertension (Uniform Data System (UDS) Health Outcomes and Disparities Table, https://bphc.hrsa.gov/sites/default/files/bphc/datareporting/pdf/2020UDSTables.pdf).

The primary purpose of the HTN Initiative is to establish a nationwide approach for improving health outcomes related to COVID-19 by addressing hypertension as a key risk factor for racial and ethnic minorities, American Indians/Alaska Natives and other vulnerable populations. This initiative will build partnerships and develop relationships within a national scope to support work with HRSA-funded health centers to:

• Improve health outcomes for racial and ethnic minority, American Indian/Alaska Native and other vulnerable populations with hypertension, including individuals with undiagnosed hypertension and pregnant and postpartum women;

• Increase the use of advanced self-measured blood pressure technology;

• Increase awareness of health programs and community services for the target population; and

• Increase patient and provider education and training.

OMH performed an objective review of the unsolicited proposal from the American Heart Association with subject matter assistance from HRSA's Bureau of Primary Health Care and external and internal proposal assessments. Based on this review, OMH determined that the proposal has merit. OMH funding will support the Community Outreach and Integration, Patient and Public Education, and Evaluation components of the project. HRSA funding will support the Healthcare Organizations and Healthcare Provider Training, and the Patient and Public Education components of the project.

As the nation's largest voluntary health organization and author of the national guidelines for cardiovascular risk factor prevention, AHA is uniquely positioned to implement this national initiative to address the acute need to improve COVID-related health outcomes for highly impacted racial and ethnic minorities by addressing hypertension as a key risk factor. Reducing this preventable and most prominent threat to our nation's health through clinical guideline and evidence-based intervention is a top organizational priority for AHA, particularly among underserved communities of color that experience higher prevalence of this critical risk factor for the leading causes of death and chronic diseases, including COVID-19.

This award is being made non-competitively because there is no current, pending, or planned funding opportunity announcement under which this proposal could compete.

As the Administration continues its response to the COVID-19 pandemic, addressing the related health disparities among racial and ethnic minority and American Indian/Alaska Native populations is an urgent challenge for HHS. Not awarding the HTN Initiative as a single source award will delay HHS' capacity to expand health center access to public health education, outreach, engagement and treatment services tailored to improve COVID-19 outcomes by addressing hypertension as a key risk factor for racial and ethnic minority and American Indian/Alaska Native populations. Delays in the award could contribute to higher rates of “excess deaths” as defined by the CDC among the populations of focus for the HTN Initiative (https://www.cdc.gov/nchs/nvss/vsrr/covid19/excess_deaths.htm).

Legislative Authority: Funding for OMH's cooperative agreement award is authorized under 42 U.S.C. 300u-6, (Section 1707 of the Public Health Service Act). Funding for HRSA's cooperative agreement award, which also will be administered by OMH under an interagency agreement, is authorized under Section 330(l) of the Public Health Service Act (42 U.S.C. 254b(l)).

Dated: October 27, 2020.
Felicia Collins,
RADM, Deputy Assistant Secretary for Minority Health.

[FR Doc. 2020-24150 Filed 10-30-20; 8:45 am]

BILLING CODE P